DEPARTMENT OF AGRICULTURE

Forest Service

North Mt. Baker Snoqualmie Resource Advisory Committee

AGENCY: Forest Service, USDA.

ACTION: Notice of meeting.

SUMMARY: The North Mt. Baker-Snoqualmie Resource Advisory Committee (RAC) will meet in Sedro-Woolley, WA. The committee is authorized under the Secure Rural Schools and Community Self-Determination Act (the Act) and operates in compliance with the Federal Advisory Committee Act. The purpose of the committee is to improve collaborative relationships and to provide advice and recommendations to the Forest Service concerning projects and funding consistent with Title II of the Act. Additional RAC information, including the meeting agenda and the meeting summary/minutes can be found at the following Web site: http://cloudapps-usda-gov.force.com/FSSRS/RAC_Page?id=001t0000002JcwIAAS.

DATES: The meeting will be held January 19, 2017 from 8:00 a.m.-5:00 p.m.

All RAC meetings are subject to cancellation. For status of meeting prior to attendance, please contact the person listed under For Further Information Contact.

ADDRESSES: The meeting will be held at 810 State Route 20, Sedro-Woolley, WA 98284.

Written comments may be submitted as described under Supplementary Information. All comments, including names and addresses when provided, are placed in the record and are available for public inspection and copying. The public may inspect comments received at 810 State Route 20, Sedro-Woolley, WA 98284. Please call ahead to facilitate entry into the building.

FOR FURTHER INFORMATION CONTACT: Erin Uloth, District Ranger by phone at 360-854-2601 or via email at euloth@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is:

1. For the committee to review project proposals put forward by proponents for Secure Rural Schools Title II funding.

2. The committee will also put forward its recommendation to the Deciding Official for what projects to fund at what levels.

The meeting is open to the public. The agenda will include time for people to make oral statements of three minutes or less. Individuals wishing to make an oral statement should request in writing by January 6, 2017 to be scheduled on the agenda. Anyone who would like to bring related matters to the attention of the committee may file written statements with the committee staff before or after the meeting. Written comments and requests for time for oral comments must be sent to Erin Uloth, Mt. Baker District Ranger, 810 State Route 20, Sedro-Woolley, WA 98284; or by email to euloth@fs.fed.us, or via facsimile to 360-856-1934.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: November 3, 2016.
Erin Uloth,
Mt. Baker District Ranger.

[FR Doc. 2016-29660 Filed 12-9-16; 8:45 am]

BILLING CODE 3411-15-P